DEPARTMENT OF TRANSPORTATION

Pipeline and Hazardous Materials Safety Administration

49 CFR Part 192

[Docket No. PHMSA-2009-0203]

Pipeline Safety: Notice of Technical Pipeline Safety Advisory Committee Meetings

AGENCY: Pipeline and Hazardous Materials Safety Administration (PHMSA); DOT.

ACTION: Notice of technical pipeline safety advisory committee meetings.

SUMMARY: This notice announces a public meeting of the Technical Pipeline Safety Standards Committee (TPSSC) and of the Technical Hazardous Liquid Pipeline Safety Standards Committee (THLPSSC).

The PHMSA staff will brief the committee members on pipeline regulatory actions and policy concerns. The purpose of the meeting is to keep the members updated on current safety concerns, proposed rules, and future proposals.

DATES: The meeting will be on Thursday, August 6, 2009, from 1 p.m. to 5 p.m. EST. The TPSSC and the THLPSSC will take part in the meeting by telephone conference call. The public may attend the meeting at the U.S. Department of Transportation, 1200 New Jersey Avenue, SE., Washington, DC 20590, Room E27-302. Please contact the individual listed under “FOR FURTHER INFORMATION CONTACT” by July 27, 2009.

FOR FURTHER INFORMATION CONTACT: For information about the meetings, contact Cheryl Whetsel by phone at (202) 366-4431 or by e-mail at cheryl.whetsel@dot.gov.

SUPPLEMENTARY INFORMATION:

I. Meeting Details

Members of the public may attend and make a statement during the advisory committee meetings. For a better chance to speak at the meetings, please contact the individual listed under “FOR FURTHER INFORMATION CONTACT” by July 27, 2009.

Privacy Act Statement

Anyone may search the electronic form of comments received in response to any of our dockets by the name of the individual submitting the comment (or signing the comment, if submitted on behalf of an association, business, labor union, etc.). DOT's complete Privacy Act Statement was published in the Federal Register on April 11, 2000 (65 FR 19477).

Information on Services for Individuals With Disabilities

For information on facilities or services for individuals with disabilities, or to seek special assistance at the meetings, please contact Cheryl Whetsel at (202) 366-4431 by July 27, 2009.

II. Committee Background

These two statutorily-mandated committees advise PHMSA on proposed safety standards, risks assessments, and safety policies for natural gas pipelines and for hazardous liquid pipelines. Both committees fall under the Federal Advisory Committee Act (Pub. L. 92-463, 5 U.S.C. App. 1) and both are mandated by the pipeline safety law (49 U.S.C. Chap. 601). Each committee consists of 15 members—with membership evenly divided among the Federal and State government, the regulated industry, and the public. The committees advise PHMSA on technical feasibility, practicability, and cost-effectiveness of each proposed pipeline safety standard.

III. Preliminary Agenda

The PHMSA will discuss its pipeline safety regulatory program, and the following proposed rules or topics of interest. The committee will not be voting on any proposals at this meeting.

1. One-Rule and Changes to Incident and Accident Forms.

2. Periodic Updates of Regulatory References to Technical Standards.

3. Low Stress II—Survey Results.

4. Installing Excess Flow Valves (EFV)—(Application for Apartments and Commercial Properties)

5. Community Technical Assistance Grant Program.

6. Pipelines and Informed Planning Alliance (PIPA).

Issued in Washington, DC, on July 9, 2009.
Jeffrey D. Wiese,
Associate Administrator for Pipeline Safety.

[FR Doc. E9-16965 Filed 7-16-09; 8:45 am]

BILLING CODE 4910-60-P